DEPARTMENT OF HEALTH AND HUMAN SERVICES

Office of the National Coordinator for Health Information Technology; American Health Information Community Meeting

ACTION: Announcement of meeting.

SUMMARY: This notice announces the 13th meeting of the American Health Information Community in accordance with the Federal Advisory Committee Act (Pub. L. No. 92-463, 5 U.S.C., App.). The American Health Information Community will advise the Secretary and recommend specific actions to achieve a common interoperability framework for health information technology (IT).

DATES: April 24, 2007, from 8:30 a.m. to 1:30 p.m. (EDT)

ADDRESSES: Hubert H. Humphrey building (200 Independence Avenue, SW., Washington, DC 20201), Conference Room 800.

FOR FURTHER INFORMATION CONTACT: Visit http://www.hhs.gov/healthit/ahic.html.

SUPPLEMENTARY INFORMATION: The meeting will include presentations by the Electronic Health Records and Chronic Care Workgroups on Recommendations and an update, as well as reports from the National Governors Association's State Alliance Task Force and a report on the First Year of the Nationwide Health Information Network (NHIN) initiative.

A Web cast of the Community meeting will be available on the NIH Web site at: http://www.videocast.nih.gov/.

If you have special needs for the meeting, please contact (202) 690-7151.

Dated: April 2, 2007.
Judith Sparrow,
Director, American Health Information Community, Office of Programs and Coordination, Office of the National Coordinator for Health Information Technology.

[FR Doc. 07-1762 Filed 4-9-07; 8:45 am]

BILLING CODE 4150-24-M